SECURITIES AND EXCHANGE COMMISSION

[File No. 500-1]

MedLink International, Inc.; Order of Suspension of Trading

October 24, 2012.

It appears to the Securities and Exchange Commission that there is a lack of current and accurate information concerning the securities of MedLink International, Inc. (“MedLink”). Questions have arisen concerning the accuracy of publicly disseminated information concerning the company's public filings and financial statements. MedLink's securities are quoted on OTC Link operated by OTC Markets Group Inc. under the ticker symbol MLKNA.

The Commission is of the opinion that the public interest and the protection of investors require a suspension of trading in the securities of the above-listed company.

Therefore, it is ordered, pursuant to Section 12(k) of the Securities Exchange Act of 1934, that trading in the securities of the above-listed company is suspended for the period from 9:30 a.m. EDT on October 24, 2012, through 11:59 p.m. EST on November 6, 2012.

By the Commission.
Jill M. Peterson,
Assistant Secretary.

[FR Doc. 2012-26503 Filed 10-24-12; 11:15 am]

BILLING CODE 8011-01-P